DEPARTMENT OF COMMERCE

International Trade Administration

[A-583-008]

Circular Welded Carbon Steel Pipes and Tubes From Taiwan: Notice of Partial Rescission of Antidumping Duty Administrative Review

AGENCY: Import Administration, International Trade Administration, Department of Commerce.

SUMMARY: On June 30, 2010, the U.S. Department of Commerce (the Department) published a notice of initiation of an administrative review of the antidumping duty order on circular welded carbon steel pipes and tubes from Taiwan. The review covers two firms: Yieh Phui Enterprise Co., Ltd. (Yieh Phui) and Yieh Hsing Enterprise Co., Ltd. (Yieh Hsing). Based on a withdrawal of the request for review from United States Steel Corporation (Petitioner), we are now rescinding this administrative review with respect to Yieh Hsing.

DATES: Effective Date: November 18, 2010.

FOR FURTHER INFORMATION CONTACT: Steve Bezirganian or Robert James, AD/CVD Operations, Office 7, Import Administration, International Trade Administration, U.S. Department of Commerce, 14th Street and Constitution Avenue, NW., Washington DC 20230; telephone: (202) 482-1131 or (202) 482-0649, respectively.

Background

On June 30, 2010, the Department published in the Federal Register a notice of initiation of an administrative review of the antidumping duty order on circular welded carbon steel pipes and tubes from Taiwan covering the period May 1, 2009, through April 30, 2010. See Initiation of Antidumping and Countervailing Duty Administrative Reviews and Requests for Revocation in Part, 75 FR 37759, 37762 (June 30, 2010).

On July 1, 2010, the Department issued questionnaires to both of the respondents, Yieh Hsing and Yieh Phui. Yieh Hsing did not respond to the Department's questionnaire.

On October 26, 2010, the Petitioner withdrew its request for an administrative review for Yieh Hsing. The Petitioner was the only interested party to request a review of Yieh Hsing.

Partial Rescission

19 CFR 351.213(d)(1) of the Department's regulations provides that the Department will rescind an administrative review if the party that requested the review withdraws its request for review within 90 days of the of publication of the notice of initiation of the requested review, or withdraws at a later date if the Department determines it is reasonable to extend the time limit for withdrawing the request. Therefore, although the Petitioner withdrew its request with regard to Yieh Hsing after the 90-day deadline, the Department has the discretion to extend this time limit. Consistent with the Department's practice, we find it reasonable to extend the withdrawal deadline, and to rescind the review with respect to Yieh Hsing, because the Department has not devoted significant time or resources to review Yieh Hsing, and the Petitioner was the only party to request a review. See, e.g., Welded Large Diameter Line Pipe From Japan: Notice of Rescission of Antidumping Duty Administrative Review, 75 FR 38989, 38990 (July 7, 2010); see also Persulfates from the People's Republic of China: Notice of Rescission of Antidumping Duty Administrative Review, 71 FR 13810, 13811 (March 17, 2006). The Department will continue this administrative review with respect to Yieh Phui.

Assessment Instructions

The Department will instruct U.S. Customs and Border Protection (CBP) to assess antidumping duties on all appropriate entries. For the company for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after publication of this notice.

Notification to Importers

This notice serves as a final reminder to importers for whom this review is being rescinded of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: November 12, 2010.
Susan H. Kuhbach,
Acting Deputy Assistant Secretary for Antidumping and Countervailing Duty Operations.

[FR Doc. 2010-29123 Filed 11-17-10; 8:45 am]

BILLING CODE 3510-DS-P